DEPARTMENT OF TRANSPORTATION

Federal Aviation Administration

14 CFR Part 39

[Docket No. FAA-2013-0635; Directorate Identifier 2012-SW-081-AD]

RIN 2120-AA64

Airworthiness Directives; Eurocopter France Helicopters

AGENCY: Federal Aviation Administration (FAA), DOT.

ACTION: Notice of proposed rulemaking (NPRM).

SUMMARY: We propose to adopt a new airworthiness directive (AD) for Eurocopter France (Eurocopter) Model EC225LP helicopters. This proposed AD would require inspecting the swashplates for corrosion or a crack, and making the appropriate repairs or replacement of parts. This proposed AD is prompted by the discovery of corrosion on the swashplates when the main rotor hub (MRH) assemblies were reconditioned. The proposed actions are intended to detect corrosion or a crack in the swashplates, which could lead to failure of the swashplate and subsequent loss of helicopter control.

DATES: We must receive comments on this proposed AD by September 23, 2013.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the foreign authority's AD, the economic evaluation, any comments received, and other information. The street address for the Docket Operations Office (telephone 800-647-5527) is in the ADDRESSES section. Comments will be available in the AD docket shortly after receipt.

For service information identified in this proposed AD, contact American Eurocopter Corporation, 2701 N. Forum Drive, Grand Prairie, TX 75052; telephone (972) 641-0000 or (800) 232-0323; fax (972) 641-3775; or at http://www.eurocopter.com/techpub. You may review the referenced service information at the FAA, Office of the Regional Counsel, Southwest Region, 2601 Meacham Blvd., Room 663, Fort Worth, Texas 76137.

FOR FURTHER INFORMATION CONTACT: Gary Roach, Aviation Safety Engineer, Regulations and Policy Group, FAA, 2601 Meacham Blvd., Fort Worth, Texas 76137; telephone (817) 222-5110; email gary.b.roach@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

The European Aviation Safety Agency (EASA), which is the Technical Agent for the Member States of the European Union, has issued EASA AD No. 2012-0131, dated July 31, 2012, to correct an unsafe condition for Eurocopter Model EC225LP helicopters. EASA advises that corrosion has been reported on the rotating and stationary swashplates of the MRH assembly of several helicopters. This condition may cause cracks on the swashplates, which may cause failure of MRH parts and loss of control of the helicopter. The EASA AD requires repetitive inspections of the affected swashplates after two years and replacing the MRH assembly if a crack is found.

FAA's Determination

These helicopters have been approved by the aviation authority of France and are approved for operation in the United States. Pursuant to our bilateral agreement with France, EASA, its technical representative, has notified us of the unsafe condition described in its AD. We are proposing this AD because we evaluated all known relevant information and determined that an unsafe condition is likely to exist or develop on other products of the same type design.

Related Service Information

We reviewed Eurocopter Alert Service Bulletin No. EC225-05A030, Revision 0, dated July 12, 2012 (ASB). The ASB states that while reconditioning the main rotor mast (MRM) assemblies, Eurocopter found corrosion on the rotating and stationary swashplates under the retaining flanges of the swashplate sub-assembly bearing. Over time, this corrosion could initiate a crack. The ASB specifies inspecting the MRM assembly for corrosion or a crack and replacing the MRM assembly if a crack or corrosion is found. The FAA and EASA use the term MRH assembly, while Eurocopter uses MRM assembly to describe the same section of the helicopter.

Proposed AD Requirements

This proposed AD would require:

Within 110 hours time-in-service (TIS) or before the MRH assembly accumulates 1,320 hours TIS, whichever occurs later, and thereafter at intervals not to exceed 1,320 hours TIS, visually inspecting the rotating and stationary swashplates for corrosion or a crack.

If a crack exists in the rotating or stationary swashplates, replacing the MRH assembly with an airworthy MRH.

If corrosion exists without any visual indication of cracking, doing the following: Before further flight, installing a placard stating “NO FLIGHT IN OAT BELOW −30°C” in the full view of the pilots and inserting the same statement in the Limitations Section, Section 2.3 Flight Envelope, Item 2 Temperature Limits, of the helicopter's Rotorcraft Flight Manual (RFM).

Within 150 hours TIS or 6 months after the inspection when the corrosion was first detected, whichever occurs first, replacing the MRH assembly with an airworthy assembly, removing any placard that states “NO FLIGHT IN OAT BELOW −30°C” from the helicopter, and removing any related limitation from the RFM.

Replacing an MRH assembly would not constitute terminating action for the repetitive inspections.

Costs of Compliance

We estimate that this proposed AD would affect three helicopters of U.S. Registry and that labor costs would average $85 per work-hour. Based on these estimates, we expect the following costs:

• Inspecting the rotating and stationary swashplates for corrosion or a crack would require 8 work-hours for a cost of $680 per helicopter and $2,040 for the U.S. fleet, per inspection cycle. Making and installing the placard would require 0.5 work-hour, for a cost of $43 per helicopter. The labor cost of installing paper in the flight manual would be negligible for a helicopter.

• Replacing the MRH assembly would require 24 work-hours and parts would cost $5,000, for a total cost of $7,040 per helicopter.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by Reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

EUROCOPTER FRANCE HELICOPTERS (Eurocopter): Docket No. FAA-2013-0635; Directorate Identifier 2012-SW-081-AD.

(a) Applicability

This AD applies to Eurocopter Model EC225LP helicopters with a main rotor hub (MRH) assembly with a rotating swashplate, part number (P/N) 332A31-3074-00 or 332A31-3076-00, and stationary swashplate, P/N 332A31-3079-00 or 332A31-3079-01, installed, certificated in any category.

(b) Unsafe Condition

This AD defines the unsafe condition as corrosion or a crack in the stationary or rotating swashplate of the MRH assembly, which could lead to failure of the swashplate and subsequent loss of helicopter control.

(c) Compliance

You are responsible for performing each action required by this AD within the specified compliance time unless it has already been accomplished prior to that time.

(d) Required Actions

(1) Within 110 hours time-in-service (TIS) or before the MRH assembly accumulates 1,320 hours TIS, whichever occurs later, and thereafter at intervals not to exceed 1,320 hours TIS, visually inspect the rotating and stationary swashplates for corrosion or a crack by following the Accomplishment Instructions, paragraph 3.B.2 and Figures 1 through 3, of Eurocopter Alert Service Bulletin No. EC225-05A030, Revision 0, dated July 12, 2012 (ASB).

(2) If a crack exists in the rotating or stationary swashplates, replace the MRH assembly with an airworthy MRH.

(3) If corrosion exists without any visual indication of cracking, do the following:

(i) Before further flight, install a placard stating “NO FLIGHT IN OAT BELOW −30 °C” in the full view of the pilots and add the statement “NO FLIGHT IN OAT BELOW −30 °C” to the Operating Limitations Section of the helicopter's Rotorcraft Flight Manual (RFM) by making pen and ink changes or by inserting a copy of this AD in Section 2.3 Flight Envelope, Item 2 Temperature Limits.

(ii) Within 150 hours TIS or 6 months after the inspection when the corrosion was first detected, whichever occurs first, replace the MRH assembly with an airworthy assembly. Remove any placard that states “NO FLIGHT IN OAT BELOW −30 °C” from the helicopter and remove any related limitation from the RFM.

(4) Replacement of an MRH assembly does not constitute terminating action for the repetitive inspections required by paragraph (d)(1) of this AD.

(e) Alternative Methods of Compliance (AMOCs)

(1) The Manager, Safety Management Group, FAA, may approve AMOCs for this AD. Send your proposal to: Gary Roach, Aviation Safety Engineer, Regulations and Policy Group, Rotorcraft Directorate, FAA, 2601 Meacham Blvd., Fort Worth, Texas 76137; telephone (817) 222-5110; email gary.b.roach@faa.gov.

(2) For operations conducted under a 14 CFR Part 119 operating certificate or under 14 CFR Part 91, subpart K, we suggest that you notify your principal inspector, or lacking a principal inspector, the manager of the local flight standards district office or certificate holding district office before operating any aircraft complying with this AD through an AMOC.

(f) Additional Information

The subject of this AD is addressed in the European Aviation Safety Agency (EASA) AD No. 2012-0131, dated July 31, 2012. You may view a copy of the EASA AD in the AD Docket on the Internet at http://www.regulations.gov.

(g) Subject

Joint Aircraft Service Component (JASC) Code: 6230, Main Rotor Mast/Swashplate.

Issued in Fort Worth, Texas, on July 11, 2013.
Kim Smith,
Directorate Manager, Rotorcraft Directorate, Aircraft Certification Service.

[FR Doc. 2013-17628 Filed 7-22-13; 8:45 am]

BILLING CODE 4910-13-P